SMALL BUSINESS ADMINISTRATION

Region IX Regulatory Fairness Board; Public Federal Regulatory Enforcement Fairness Roundtable

The Small Business Administration Region IX Regulatory Fairness Board and the SBA Office of the National Ombudsman will hold a Public Roundtable on Thursday, December 4, 2003 at 1 p.m. at the SETA Headquarters, Board Room, 925 Del Paso Boulevard, Sacramento, CA 95815, to provide small business owners and representatives of trade associations with an opportunity to share information concerning the federal regulatory enforcement and compliance environment.

Anyone wishing to attend or to make a presentation must contact Robert Stitt in writing or by fax, in order to be put on the agenda. Robert Stitt, SBA Sacramento District Office, 650 Capital Mall, Suite 7-500, Sacramento, CA 95814, phone (916) 930-3722, fax (916) 930-3736 or (202) 481-5298, e-mail: Robert.Stitt@sba.gov.

For more information, see our Web site at http://www.sba.gov/ombudsman.
Dated: December 1, 2003.
Peter Sorum,
National Ombudsman (Acting).

[FR Doc. 03-30209 Filed 12-4-03; 8:45 am]

BILLING CODE 8025-01-P